INTERNATIONAL TRADE COMMISSION

[Investigation Nos. 701-TA-710-711 and 731-TA-1673-1674 (Preliminary)]

2,4-Dichlorophenoxyacetic Acid (“2,4-D”) From China and India; Revised Schedule for the Subject Investigations

AGENCY: United States International Trade Commission.

ACTION: Notice.

DATES: April 11, 2024.

FOR FURTHER INFORMATION CONTACT: Charles Cummings (202-708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On March 14, 2024, the Commission established a schedule for the conduct of the preliminary phase of the subject investigations (89 FR 19876, March 20, 2024). Subsequently, the Department of Commerce (“Commerce”) extended the deadline for its initiation determinations from April 3, 2024 to April 23, 2024 (89 FR 24431, April 8, 2024). The Commission, therefore, is revising its schedule to conform with Commerce's new schedule.

The Commission must reach preliminary determinations by May 20, 2024, and the Commission's views must be transmitted to Commerce within five business days thereafter, or by May 28, 2024.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: April 12, 2024.
Lisa Barton,
Secretary to the Commission.

[FR Doc. 2024-08175 Filed 4-16-24; 8:45 am]

BILLING CODE 7020-02-P